DEPARTMENT OF TRANSPORTATION

Federal Aviation Administration

14 CFR Parts 119, 121 and 135

[Docket No. FAA-2003-15571; Amendment Nos. 119-8, 121-290, and 135-83]

RIN 2120-AI00

DOD Commercial Air Carrier Evaluators

AGENCY: Federal Aviation Administration (FAA), DOT.

ACTION: Final rule; correction.

SUMMARY: This document makes a correction to the final rule published in the Federal Register on July 10, 2003 (68 FR 41214). That rule clarified existing regulations as they apply to Department of Defense (DOD) commercial air carrier evaluators.

EFFECTIVE DATE: This correction is effective on October 21, 2003.

FOR FURTHER INFORMATION CONTACT: Lt. Col. Tom Barrale, USAF, Department of Defense Air Mobility Command Liaison Officer to FAA Flight Standards Service, (202) 267-7088.

Correction

In the final rule FR Doc. 03-17459 published on July 10, 2003, (68 FR 41214), make the following corrections:

On page 41214, in column 3, in the heading section of the rule at the bottom of the page, beginning on line 4 of the heading, correct “Amendment Nos. 119-8, 121-286, and 135-83” to read “Amendment Nos. 119-8, 121-290, and 135-83.”

Issued in Washington, DC on October 3, 2003.
Gary A. Michel,
Acting Assistant Chief Counsel for Regulations.

[FR Doc. 03-26445 Filed 10-20-03; 8:45 am]

BILLING CODE 4910-13-P